CONSUMER PRODUCT SAFETY COMMISSION

Sunshine Act Meeting; Cancellation

Federal Register CITATION OF PREVIOUS ANNOUNCEMENT: Vol. 79, No. 2, Friday, January 3, 2014, page 387.

ANNOUNCED TIME AND DATE OF MEETING: Wednesday, January 8, 2014, 10 a.m.-12 p.m.

MEETING CANCELED. For a recorded message containing the latest agenda information, call (301) 504-7948.

CONTACT PERSON FOR ADDITIONAL INFORMATION: Todd A. Stevenson, Office of the Secretary, 4330 East West Highway, Bethesda, MD 20814 (301) 504-7923.

Dated: January 7, 2014.
Todd A. Stevenson,
Secretary.

[FR Doc. 2014-00225 Filed 1-7-14; 4:15 pm]

BILLING CODE 6355-01-P